DEPARTMENT OF ENERGY

Federal Energy Regulatory Commission

Combined Notice of Filings #1

Take notice that the Commission received the following electric corporate filings:

Docket Numbers: EC15-21-000.

Applicants: Rising Tree Wind Farm LLC, Rising Tree Wind Farm II LLC.

Description: Amendment to October 31, 2014 Application for Authorization for Disposition of Jurisdictional Facilities of Rising Tree Wind Farm LLC, et. al.

Filed Date: 11/14/14.

Accession Number: 20141114-5246.

Comments Due: 5 p.m. ET 12/11/14.

Docket Numbers: EC15-42-000.

Applicants: Sunshine Gas Producers, LLC, Innovative Energy Systems, LLC, Seneca Energy II, LLC.

Description: Application Under FPA Section 203 Of Sunshine Gas, Innovative Energy and Seneca Energy II with Privileged Exhibit I.

Filed Date: 12/1/14.

Accession Number: 20141201-5033.

Comments Due: 5 p.m. ET 12/22/14.

Take notice that the Commission received the following electric rate filings:

Docket Numbers: ER10-2385-004; ER10-2346-005; ER10-2353-005; ER10-2382-004; ER10-2357-004; ER10-2361-004.

Applicants: Elkhorn Ridge Wind, LLC, Forward WindPower, LLC, Lookout WindPower, LLC, San Juan Mesa Wind Project, LLC, Sleeping Bear, LLC, Wildorado Wind, LLC.

Description: Notice of Change in Status of NRG Wind TE Holdco LLC subsidiaries under ER10-2835, et. al.

Filed Date: 12/1/14.

Accession Number: 20141201-5166.

Comments Due: 5 p.m. ET 12/22/14.

Docket Numbers: ER10-2615-004; ER11-2335-005.

Applicants: Plum Point Energy Associates, LLC, Plum Point Services Company, LLC.

Description: Notice of Non-Material Change in Status of Plum Point Energy Associates, LLC, et. al.

Filed Date: 12/1/14.

Accession Number: 20141201-5044.

Comments Due: 5 p.m. ET 12/22/14.

Docket Numbers: ER13-2157-005.

Applicants: Midcontinent Independent System Operator, Inc.

Description: Compliance filing per 35: 2014-12-01_SA 2289 Compliance Ameren-Hoopeston H094 GIA to be effective 8/15/2013.

Filed Date: 12/1/14.

Accession Number: 20141201-5211.

Comments Due: 5 p.m. ET 12/22/14.

Docket Numbers: ER14-2562-001.

Applicants: Midcontinent Independent System Operator, Inc.

Description: Compliance filing per 35: 2014-12-01 SGIP Order 792 Compliance_Attachment X to be effective 10/1/2014.

Filed Date: 12/1/14.

Accession Number: 20141201-5108.

Comments Due: 5 p.m. ET 12/22/14.

Docket Numbers: ER14-2895-001.

Applicants: New York Independent System Operator, Inc.

Description: Compliance filing per 35: NYISO compliance tariff revision re:Code of Conduct Prvsn on information sharing to be effective 11/17/2014.

Filed Date: 12/1/14.

Accession Number: 20141201-5217.

Comments Due: 5 p.m. ET 12/22/14.

Docket Numbers: ER15-492-000.

Applicants: Southwest Power Pool, Inc.

Description: Petition for waiver of Attachment O of the SPP Open Access Tariff provisions of Southwest Power Pool, Inc.

Filed Date: 11/26/14.

Accession Number: 20141126-5060.

Comments Due: 5 p.m. ET 12/17/14.

Docket Numbers: ER15-517-000.

Applicants: ISO New England Inc.

Description: Compliance filing per 35: Stan. for Bus. Prac. and Comm. Protocols for Public Utilities—Order 676-H to be effective 2/2/2015.

Filed Date: 12/1/14.

Accession Number: 20141201-5065.

Comments Due: 5 p.m. ET 12/22/14.

Docket Numbers: ER15-518-000.

Applicants: Duke Energy Progress, Inc., Duke Energy Carolinas, LLC, Duke Energy Florida, Inc.

Description: Compliance filing per 35: Order 676-H Compliance Filing and Waiver Request to be effective 2/2/2015.

Filed Date: 12/1/14.

Accession Number: 20141201-5072.

Comments Due: 5 p.m. ET 12/22/14.

Docket Numbers: ER15-519-000.

Applicants: ISO New England Inc.

Description: Compliance filing per 35: OATT Req. for Waivers Rel. to Order No. 676-H to be effective 2/2/2015.

Filed Date: 12/1/14.

Accession Number: 20141201-5084.

Comments Due: 5 p.m. ET 12/22/14.

Docket Numbers: ER15-520-000.

Applicants: Deseret Generation & Transmission Co-operative, Inc.

Description: Compliance filing per 35: OATT Order No. 676-H Waiver and Compliance Filing to be effective 2/2/2015.

Filed Date: 12/1/14.

Accession Number: 20141201-5090.

Comments Due: 5 p.m. ET 12/22/14.

Docket Numbers: ER15-521-000.

Applicants: Public Service Company of Colorado.

Description: Compliance filing per 35: 2014-12-1 Order 676-H Filing to be effective 2/2/2015.

Filed Date: 12/1/14.

Accession Number: 20141201-5091.

Comments Due: 5 p.m. ET 12/22/14.

Docket Numbers: ER15-522-000.

Applicants: Arizona Public Service Company.

Description: Compliance filing per 35: Revisions to MBR Tariff to be Effective February 2, 2015 to be effective 2/2/2015.

Filed Date: 12/1/14.

Accession Number: 20141201-5104.

Comments Due: 5 p.m. ET 12/22/14.

Docket Numbers: ER15-523-000.

Applicants: Duke Energy Progress, Inc., Duke Energy Florida, Inc., Duke Energy Carolinas, LLC.

Description: § 205(d) rate filing per 35.13(a)(2)(iii): Software Related Issues Filing to be effective 1/13/2015.

Filed Date: 12/1/14.

Accession Number: 20141201-5109.

Comments Due: 5 p.m. ET 12/22/14.

Docket Numbers: ER15-524-000.

Applicants: Tucson Electric Power Company.

Description: Compliance filing per 35: Order No. 676-H Compliance Filing to be effective 2/2/2015.

Filed Date: 12/1/14.

Accession Number: 20141201-5112.

Comments Due: 5 p.m. ET 12/22/14.

Docket Numbers: ER15-525-000.

Applicants: UNS Electric, Inc.

Description: Compliance filing per 35: Order No. 676-H Compliance Filing to be effective 2/2/2015.

Filed Date: 12/1/14.

Accession Number: 20141201-5113.

Comments Due: 5 p.m. ET 12/22/14.

Docket Numbers: ER15-526-000.

Applicants: California Independent System Operator Corporation.

Description: Compliance filing per 35: 2014-12-01—Oder676-H—Compliance to be effective 2/2/2015.

Filed Date: 12/1/14.

Accession Number: 20141201-5114.

Comments Due: 5 p.m. ET 12/22/14.

Docket Numbers: ER15-527-000.

Applicants: PJM Interconnection, L.L.C.

Description: Compliance filing per 35: Compliance Filing per Order 676-H—RM05-5-022—Business Practice Standards to be effective 2/2/2015.

Filed Date: 12/1/14.

Accession Number: 20141201-5128.

Comments Due: 5 p.m. ET 12/22/14.

Docket Numbers: ER15-528-000.

Applicants: Golden Spread Electric Cooperative, Inc.

Description: Compliance filing per 35: OATT Order No. 676-H Compliance Filing to be effective 2/2/2015.

Filed Date: 12/1/14.

Accession Number: 20141201-5141.

Comments Due: 5 p.m. ET 12/22/14.

Docket Numbers: ER15-529-000.

Applicants: Arizona Public Service Company.

Description: Compliance filing per 35: OATT Modifications Pursuant to Order 676-H to be effective 5/15/2015.

Filed Date: 12/1/14.

Accession Number: 20141201-5144.

Comments Due: 5 p.m. ET 12/22/14.

Docket Numbers: ER15-530-000.

Applicants: Midcontinent Independent System Operator, Inc.

Description: Compliance filing per 35: 2014-12-01 Order 676-H Compliance new NAESB standard to be effective 2/2/2015.

Filed Date: 12/1/14.

Accession Number: 20141201-5182.

Comments Due: 5 p.m. ET 12/22/14.

Docket Numbers: ER15-531-000.

Applicants: California Independent System Operator Corporation.

Description: Compliance filing per 35: 2014-12-01_Waiver_Order676-H to be effective N/A.

Filed Date: 12/1/14.

Accession Number: 20141201-5192.

Comments Due: 5 p.m. ET 12/22/14.

Docket Numbers: ER15-532-000.

Applicants: Southwest Power Pool, Inc.

Description: § 205(d) rate filing per 35.13(a)(2)(iii): 1897R3 Westar Energy, Inc. NITSA and NOA to be effective 8/1/2014.

Filed Date: 12/1/14.

Accession Number: 20141201-5196.

Comments Due: 5 p.m. ET 12/22/14.

Docket Numbers: ER15-533-000.

Applicants: Public Service Company of New Mexico.

Description: Compliance filing per 35: Order No. 676-H Compliance Filing to be effective 5/15/2015.

Filed Date: 12/1/14.

Accession Number: 20141201-5200.

Comments Due: 5 p.m. ET 12/22/14.

Docket Numbers: ER15-534-000.

Applicants: Southwest Power Pool, Inc.

Description: Compliance filing per 35: Revisions to Attachment R-1 in Compliance to Order No. 676-H to be effective 2/2/2015.

Filed Date: 12/1/14.

Accession Number: 20141201-5199.

Comments Due: 5 p.m. ET 12/22/14.

Docket Numbers: ER15-535-000.

Applicants: Nevada Power Company.

Description: Compliance filing per 35: OATT Order No. 676-H Compliance Filing to be effective 2/2/2015.

Filed Date: 12/1/14.

Accession Number: 20141201-5216.

Comments Due: 5 p.m. ET 12/22/14.

Docket Numbers: ER15-536-000.

Applicants: PJM Interconnection, L.L.C., Baltimore Gas and Electric Company.

Description: § 205(d) rate filing per 35.13(a)(2)(iii): BG&E submits revisions to PJM OATT Attachment H-2A to be effective 2/2/2015.

Filed Date: 12/1/14.

Accession Number: 20141201-5218.

Comments Due: 5 p.m. ET 12/22/14.

Docket Numbers: ER15-537-000.

Applicants: PJM Interconnection, L.L.C.

Description: § 205(d) rate filing per 35.13(a)(2)(iii): Original Service Agreement No. 4044 to be effective 11/1/2014.

Filed Date: 12/1/14.

Accession Number: 20141201-5219.

Comments Due: 5 p.m. ET 12/22/14.

Docket Numbers: ER15-538-000.

Applicants: PJM Interconnection, L.L.C.

Description: § 205(d) rate filing per 35.13(a)(2)(iii): Original Service Agreement No. 4047 to be effective 11/1/2014.

Filed Date: 12/1/14.

Accession Number: 20141201-5221.

Comments Due: 5 p.m. ET 12/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2014.
Nathaniel J. Davis, Sr.,
Deputy Secretary.

[FR Doc. 2014-28738 Filed 12-8-14; 8:45 am]

BILLING CODE 6717-01-P